DEPARTMENT OF AGRICULTURE

Animal and Plant Health Inspection Service

[Docket No. APHIS-2019-0033]

Notice of Request for Revision to and Extension of Approval of an Information Collection; Importation of Live Poultry, Poultry Meat, and Other Poultry Products From Specified Regions

AGENCY: Animal and Plant Health Inspection Service, USDA.

ACTION: Revision to and extension of approval of an information collection; comment request.

SUMMARY: In accordance with the Paperwork Reduction Act of 1995, this notice announces the Animal and Plant Health Inspection Service's intention to request a revision to and extension of approval of an information collection associated with regulations for the importation of live poultry, poultry meat, and other poultry products from specified regions.

DATES: We will consider all comments that we receive on or before September 16, 2019.

ADDRESSES: You may submit comments by either of the following methods:

• Federal eRulemaking Portal: Go to http://www.regulations.gov/#!docketDetail;D=APHIS-2019-0033.

• Postal Mail/Commercial Delivery: Send your comment to Docket No. APHIS-2019-0033, Regulatory Analysis and Development, PPD, APHIS, Station 3A-03.8, 4700 River Road Unit 118, Riverdale, MD 20737-1238.

Supporting documents and any comments we receive on this docket may be viewed at http://www.regulations.gov/#!docketDetail;D=APHIS-2019-0033 or in our reading room, which is located in Room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information about the importation of live poultry, poultry meat, and other poultry products from specified regions, contact Dr. Magde Elshafie, Senior Staff Veterinarian, VS, APHIS, 4700 River Road, Unit 40, Riverdale, MD 20737; (301) 851-3300. For more detailed information on the information collection, contact Ms. Kimberly Hardy, APHIS' Information Collection Coordinator, at (301) 851-2483.

SUPPLEMENTARY INFORMATION: Title: Importation of Live Poultry, Poultry Meat, and Other Poultry Products From Specified Regions.

OMB Control Number: 0579-0228.

Type of Request: Revision to and extension of approval of an information collection.

Abstract: Under the authority of the Animal Health Protection Act (7 U.S.C. 8301 et seq.), the Animal and Plant Health Inspection Service (APHIS) of the United States Department of Agriculture is authorized, among other things, to prohibit or restrict the importation and interstate movement of animals and animal products to prevent the introduction into and dissemination within the United States of livestock diseases and pests. To carry out the mission, APHIS regulates the importation of animals and animal products into the United States based on regulations contained in 9 CFR parts 92 through 98.

Disease prevention is the most effective method for maintaining a healthy animal population and for enhancing the United States' ability to compete in the world market of animal and animal product trade. APHIS' Veterinary Services administers regulations intended to prevent the introduction of animal diseases into the United States. The regulations in parts 93 and 94 place certain restrictions on the importation of live poultry, poultry meat, and other poultry products to prevent the introduction of highly pathogenic avian influenza (HPAI), Newcastle disease, and other exotic poultry diseases into the United States.

To ensure live poultry, poultry meat, and other poultry products do not pose a risk of introducing HPAI, Newcastle disease, or other exotic poultry diseases into the United States, APHIS requires the following information collection activities: Applications for import or in-transit permits; import or in-transit permit customs declarations; reports of animals, poultry, or hatching eggs offered for importation; health certificates; certificates of origin; maintenance of records; cooperative service agreements; and certificates for shipment back to the United States.

We are asking the Office of Management and Budget (OMB) to approve our use of these information collection activities, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 1 hour per response.

Respondents: Federal animal health authorities of certain regions that export live poultry, poultry meat, and other poultry products; importers; pet bird owners; and zoological facilities.

Estimated annual number of respondents: 24.

Estimated annual number of responses per respondent: 2.

Estimated annual number of responses: 56.

Estimated total annual burden on respondents: 57 hours. (Due to averaging, the total annual burden hours may not equal the product of the annual number of responses multiplied by the reporting burden per response.)

All responses to this notice will be summarized and included in the request for OMB approval. All comments will also become a matter of public record.

Done in Washington, DC, this 11th day of July 2019.
Kevin Shea,
Administrator, Animal and Plant Health Inspection Service.

[FR Doc. 2019-15186 Filed 7-16-19; 8:45 am]

BILLING CODE 3410-34-P